DEPARTMENT OF LABOR

Employment and Training Administration

Labor Surplus Area Classification Under Executive Orders 12073 and 10582

ACTION: Notice.

EFFECTIVE DATE: The annual list of labor surplus areas is effective October 1, 2002 for all States.

SUMMARY: The purpose of this notice is to announce the annual list of labor surplus areas for Fiscal Year 2003.

FOR FURTHER INFORMATION CONTACT: Gay Gilbert, Division Chief, U.S. Employment Service, Employment and Training Administration, 200 Constitution Avenue, NW., Room C 4512, Washington, DC 20210. Telephone: (202) 693-3046.

SUPPLEMENTARY INFORMATION: The Department of Labor regulations implementing Executive Orders 12073 and 10582 are set forth at 20 CFR part 654, subparts A and B. These regulations require the Assistant Secretary of Labor to classify jurisdictions as labor surplus areas pursuant to the criteria specified in the regulations and to publish annually a list of labor surplus areas. Pursuant to those regulations the Assistant Secretary of Labor is hereby publishing the annual list of labor surplus areas.

In addition, the regulations provide an exceptional circumstance criteria for classifying labor surplus areas when catastrophic events, such as natural disasters, plant closings, and contract cancellations are expected to have a long-term impact on labor market area conditions, discounting temporary or seasonal factors.

Dated: January 16, 2003.
Emily Stover DeRocco,
Assistant Secretary of Labor.

Eligible Labor Surplus Areas

Procedures for Classifying Labor Surplus Areas

Labor surplus areas are classified on the basis of civil jurisdictions. Civil jurisdictions are now defined as all cities with a population of at least 25,000 and all counties. Townships of 25,000 or more population are also considered as civil jurisdictions in 4 states (Michigan, New Jersey, New York, and Pennsylvania). In Connecticut, Massachusetts, Puerto Rico, and Rhode Island where counties have very limited or no government functions, the classifications are done for individual towns.

A civil jurisdiction is classified as a labor surplus area when its average unemployment rate was at least 20 percent above the average unemployment rate for all states (including the District of Columbia and Puerto Rico) during the previous two calendar years. During periods of high national unemployment, the 20 percent ratio is disregarded and an area is classified as a labor surplus area if its unemployment rate during the previous two calendar years was ten percent or more. This ten percent ceiling concept comes into operation whenever the two-year average unemployment rate for all states was 8.3 percent or above (i.e., 8.3 percent times the 1.20 ratio equals ten percent). Similarly, a “floor” concept of six percent is used during periods of low national unemployment for an area to be classified as a labor surplus area. The six percent “floor” comes into effect whenever the average unemployment rate for all states during the two-year reference period was five percent or less.

The classification procedures also provide for the designation of labor surplus areas under exceptional circumstance criteria. The exceptional circumstance procedures permit the regular classification criteria to be waived when an area experiences a significant increase in unemployment which is not temporary or seasonal and which was not adequately reflected in the data for the two-year reference period. In order for an area to be classified as a labor surplus area under the exceptional circumstance criteria, the State Workforce Agency must submit a petition requesting such classification to the U.S. Department of Labor's Employment and Training Administration (ETA). The current conditions for exceptional circumstance classification are: an area unemployment rate of at least six percent for each of the three most recent months; projected unemployment rate of at least six percent for each of the next twelve months; and documented information that the exceptional circumstance event has already occurred. The State Workforce Agency may file petitions on behalf of civil jurisdictions, as well as Metropolitan Statistical Areas or Primary Metropolitan Statistical Areas, as defined by the Office of Management and Budget. The addresses of State Workforce Agencies are available at the end of this description.

The Department of Labor issues the labor surplus area listing on a fiscal year basis. The listing becomes effective each October 1 and remains in effect through the following September 30. The reference period used in preparing the current list was January 2000 through December 2001. The national average unemployment rate during this period (including data for Puerto Rico) fell below five percent. As a result, the six percent “floor” rate explained in the second paragraph, went into effect for the Fiscal Year 2003 labor surplus area classifications. Therefore, areas are included on the current annual labor surplus area listing because their average unemployment rate during the reference period was six percent or above. During the course of the fiscal year, the annual listing is updated on the basis of exceptional circumstances petitions submitted by State Workforce Agencies and approved by the Employment and Training Administration. The Fiscal Year 2003 classifications will be in effect from October 1, 2002, through September 30, 2003.

State Workforce Agencies

Alabama | Department of Industrial Relations, 649 Monroe St., Montgomery 36130.
Alaska | Department of Labor & Workforce Development, PO Box 25509, Juneau, 99802.
Arizona | Arizona Department of Economic Security, PO Box 6123, Phoenix 85005.
Arkansas | Employment Security Department, Department of Labor, PO Box 2981, Little Rock 72203.
California | Employment Development Department, 800 Capitol Mall, Sacramento 95814.
Colorado | Department Of Labor and Employment, 1515 Arapahoe Street, Denver 80233-2117.
Connecticut | Connecticut Labor Dept., Office of Workforce Competitiveness, 805 Brook Street, Building #4, Rocky Hill CT 06067.
Delaware | Delaware Department of Labor, Division of Employment & Training, 4425 North Market Street, Wilmington, 19802.
District of Columbia | Department of Employment Services, 609 H Street, NE Washington, DC 20002.
Florida | Agency for Workforce Innovation, Atkins Building, 1320 Executive Center Drive, Tallahassee 32399-0667.
Georgia | Georgia Department of Labor, 148 International Blvd, NE, Atlanta 30303.
Guam | Department of Labor, Government of Guam, PO Box 23548 GMF, Agana 96921.
Hawaii | Department of Labor and Industrial Relations, 830 Punchbowl St., Honolulu 96813.
Idaho | Department of Labor, 317 Main St., PO Box 35, Boise 83735.
Illinois | Department of Employment Security, 401 South State St., Chicago 60605-1289.
Indiana | Department of Employment and Training Services, 10 North Senate Ave., Indianapolis 46204.
Iowa | Iowa Workforce Development, 1000 Grand Ave., Des Moines 50319.
Kansas | Dept of Human Resources, Division of Employment, 401 Topeka Ave., Topeka 66612.
Kentucky | Department of Employment Services, 275 East Main St., Frankfort 40621.
Louisiana | Department of Labor, PO Box 94094, Baton Rouge 70804-9094.
Maine | Department of Labor, Bureau of Employment Services, 55 State Street Station House, Augusta 04330-0055.
Maryland | Department of Economic and Employment Development, 1100 N. Eutaw St., Baltimore 21201.
Massachusetts | Division of Employment and Training, 19 Stanford St., Charles F. Hurley Bldg., Boston, 02114.
Michigan | Department of Career Development, Employment Service Agency, Victor Office Center, 201 N. Washington Square, 5th Floor, Lansing 48913.
Minnesota | Department of Economic Security, 390 North Robert St., St. Paul 55101.
Mississippi | Employment Security Commission, 1520 W. Capital St., PO Box 1699, Jackson 39215.
Missouri | Department of Labor & Industrial Relations, 3315 West Truman Boulevard, PO Box 504, Jefferson City 65102.
Montana | Dept. of Labor & Industry, Employment Security Division of Montana, PO Box 1728, Helena 59624.
Nebraska | Dept. of Labor, Div of Employment, 550 South 16th St., PO Box 94600, State House Station, Lincoln 68509.
Nevada | Nevada Department of Employment, Training and Rehabilitation; 500 East 3rd St., Carson City 89713.
New Hampshire | Department of Employment Security, 32 S. Main St., Room 204, Concord 03301.
New Jersey | Department of Labor, John Fitch Plaza, Trenton 08625.
New Mexico | Department of Labor, 401 Broadway, NE., PO Box 1928, Albuquerque 87103.
New York | Department of Labor, State Campus, Building 12, Albany 12240.
North Carolina | Employment Security Commission of North Carolina, 700 Wade Ave., PO Box 25903, Raleigh 27611.
North Dakota | Job Service North Dakota, 1000 E. Divide Ave., PO Box 5507, Bismarck, 58506-5507.
Ohio | Bureau of Employment Services, 145 South Front St., PO Box 1618, Columbus 43216.
Oklahoma | Employment Security Commission, 200 Will Rogers Memorial Office Bldg., Oklahoma City 73105.
Oregon | Employment Department, Dept of Human Resources, 875 Union St., N.E., Salem 97311.
Pennsylvania | Department of Labor & Industry, 1720 Labor & Industry Bldg. Harrisburg 17121.
Puerto Rico | Employment Services Division, Right To Employment Administration, PO Box 364452, San Juan, PR 00936.
Rhode Island | Department of Labor & Training, 1511 Pontiac Avenue, Cranston, 02920-4407.
South Carolina | Employment & Training, Employment Security Commission, PO Box 1406, Columbia 29202.
South Dakota | Department of Labor, 700 Governors Drive, Pierre 57501-2291.
Tennessee | TN Department of Labor & Workforce Development, Division of Employment Security, 500 James Robertson Parkway 12th Floor, Davy Crockett Tower, Nashville 37245-1700.
Texas | Employment Services, Texas Workforce Commission, 101 East 15th Street 440T, Austin, 78778.
Utah | Department of Workforce Services, 140 East 300 South, PO Box 45249, Salt Lake City 84111.
Vermont | Department of Employment & Training, PO Box 488, 5 Green Mountain Drive, Montpelier 05601-0488.
Virgin Islands | Department of Labor, 53A & 54B Kronprindsen Gade, Charlotte Amalie, 00802.
Virginia | Virginia Employment Commission, 703 East Main Street, Richmond 23219.
Washington | Employment Security Department, PO Box 9046, Olympia 98507-9046.
West Virginia | Bureau of Employment Programs, 112 California Ave., Charleston 25305-0112.
Wisconsin | Division of Workforce Solutions, Department of Workforce Development, 201 East Washington Avenue, Room A200, Madison 53703.
Wyoming | Division of Employment Resources, Department of Employment, PO Box 2760, Casper 82602.

Labor Surplus Areas—October 1, 2002 Through September 30, 2003
Eligible labor surplus areas | Civil jurisdictions included
ALABAMA
ANNISTON CITY | ANNISTON CITY IN
| CALHOUN COUNTY
BARBOUR COUNTY | BARBOUR COUNTY
BESSEMER CITY | BESSEMER CITY IN
| JEFFERSON COUNTY
BIBB COUNTY | BIBB COUNTY
BULLOCK COUNTY | BULLOCK COUNTY
BUTLER COUNTY | BUTLER COUNTY
CHOCTAW COUNTY | CHOCTAW COUNTY
CLARKE COUNTY | CLARKE COUNTY
CLAY COUNTY | CLAY COUNTY
COFFEE COUNTY | COFFEE COUNTY
COLBERT COUNTY | COLBERT COUNTY
CONECUH COUNTY | CONECUH COUNTY
COOSA COUNTY | COOSA COUNTY
COVINGTON COUNTY | COVINGTON COUNTY
CRENSHAW COUNTY | CRENSHAW COUNTY
DALLAS COUNTY | DALLAS COUNTY
FAYETTE COUNTY | FAYETTE COUNTY
FLORENCE CITY | FLORENCE CITY IN
| LAUDERDALE COUNTY
FRANKLIN COUNTY | FRANKLIN COUNTY
GADSDEN CITY | GADSDEN CITY IN
| ETOWAH COUNTY
GENEVA COUNTY | GENEVA COUNTY
GREENE COUNTY | GREENE COUNTY
HALE COUNTY | HALE COUNTY
HENRY COUNTY | HENRY COUNTY
JACKSON COUNTY | JACKSON COUNTY
LAMAR COUNTY | LAMAR COUNTY
LAWRENCE COUNTY | LAWRENCE COUNTY
LOWNDES COUNTY | LOWNDES COUNTY
MACON COUNTY | MACON COUNTY
MARION COUNTY | MARION COUNTY
MOBILE CITY | MOBILE CITY IN
| MOBILE COUNTY
MONROE COUNTY | MONROE COUNTY
PERRY COUNTY | PERRY COUNTY
PICKENS COUNTY | PICKENS COUNTY
PIKE COUNTY | PIKE COUNTY
PRICHARD CITY | PRICHARD CITY IN
| MOBILE COUNTY
RANDOLPH COUNTY | RANDOLPH COUNTY
SUMTER COUNTY | SUMTER COUNTY
TALLADEGA COUNTY | TALLADEGA COUNTY
WALKER COUNTY | WALKER COUNTY
WASHINGTON COUNTY | WASHINGTON COUNTY
WILCOX COUNTY | WILCOX COUNTY
WINSTON COUNTY | WINSTON COUNTY
ALASKA
ALEUTIAN ISLAND WEST CENSUS AREA | ALEUTIAN ISLAND WEST CENSUS AREA
BETHEL CENSUS AREA | BETHEL CENSUS AREA
BRISTOL BAY BOROUGH DIV | BRISTOL BAY BOROUGH DIV
DENALI BOROUGH | DENALI BOROUGH
DILLINGHAM CENSUS AREA | DILLINGHAM CENSUS AREA
FAIRBANKS CITY | FAIRBANKS CITY IN
| FAIRBANKS NORTH STAR BOROUGH
HAINES BOROUGH | HAINES BOROUGH
KENAI PENINSULA BOROUGH | KENAI PENINSULA BOROUGH
KETCHIKAN GATEWAY BOROUGH | KETCHIKAN GATEWAY BOROUGH
KODIAK ISLAND BOROUGH | KODIAK ISLAND BOROUGH
LAKE AND PENINSULA BOROUGH | LAKE AND PENINSULA BOROUGH
MATANUSKA-SUSITNA BOROUGH | MATANUSKA-SUSITNA BOROUGH
NOME CENSUS AREA | NOME CENSUS AREA
NORTH SLOPE BOROUGH | NORTH SLOPE BOROUGH
NORTHWEST ARCTIC BOROUGH | NORTHWEST ARCTIC BOROUGH
PRINCE OF WALES OUTER KETCHIKAN | PRINCE OF WALES OUTER KETCHIKAN
SKAGWAY-HOONAH-ANGOON CEN AREA | SKAGWAY-HOONAH-ANGOON CEN AREA
SOUTHEAST FAIRBANKS CENSUS AREA | SOUTHEAST FAIRBANKS CENSUS AREA
VALDEZ CORDOVA CENSUS AREA | VALDEZ CORDOVA CENSUS AREA
WADE HAMPTON CENSUS AREA | WADE HAMPTON CENSUS AREA
WRANGELL-PETERSBURG CENSUS AREA | WRANGELL-PETERSBURG CENSUS AREA
YAKUTAT BOROUGH | YAKUTAT BOROUGH
YUKON-KOYUKUK CENSUS AREA | YUKON-KOYUKUK CENSUS AREA
ARIZONA
APACHE COUNTY | APACHE COUNTY
AVONDALE CITY | AVONDALE CITY
| MARICOPA COUNTY
BALANCE OF COCONINO COUNTY | COCONINO COUNTY LESS
| FLAGSTAFF CITY
GRAHAM COUNTY | GRAHAM COUNTY
GREENLEE COUNTY | GREENLEE COUNTY
LA PAZ COUNTY | LA PAZ COUNTY
NAVAJO COUNTY | NAVAJO COUNTY
SANTA CRUZ COUNTY | SANTA CRUZ COUNTY
YUMA CITY | YUMA CITY IN
| YUMA COUNTY
BALANCE OF YUMA COUNTY | YUMA COUNTY LESS
| YUMA CITY
ARKANSAS
ASHLEY COUNTY | ASHLEY COUNTY
BRADLEY COUNTY | BRADLEY COUNTY
CALHOUN COUNTY | CALHOUN COUNTY
CHICOT COUNTY | CHICOT COUNTY
CLAY COUNTY | CLAY COUNTY
CLEVELAND COUNTY | CLEVELAND COUNTY
CONWAY COUNTY | CONWAY COUNTY
BALANCE OF CRITTENDEN COUNTY | CRITTENDEN COUNTY LESS
| WEST MEMPHIS CITY
CROSS COUNTY | CROSS COUNTY
DALLAS COUNTY | DALLAS COUNTY
DESHA COUNTY | DESHA COUNTY
DREW COUNTY | DREW COUNTY
GREENE COUNTY | GREENE COUNTY
JACKSON COUNTY | JACKSON COUNTY
LAFAYETTE COUNTY | LAFAYETTE COUNTY
LAWRENCE COUNTY | LAWRENCE COUNTY
LEE COUNTY | LEE COUNTY
MISSISSIPPI COUNTY | MISSISSIPPI COUNTY
MONROE COUNTY | MONROE COUNTY
OUACHITA COUNTY | OUACHITA COUNTY
PERRY COUNTY | PERRY COUNTY
PHILLIPS COUNTY | PHILLIPS COUNTY
PINE BLUFF CITY | PINE BLUFF CITY
| JEFFERSON COUNTY
POINSETT COUNTY | POINSETT COUNTY
RANDOLPH COUNTY | RANDOLPH COUNTY
SHARP COUNTY | SHARP COUNTY
ST. FRANCIS COUNTY | ST. FRANCIS COUNTY
VAN BUREN COUNTY | VAN BUREN COUNTY
WOODRUFF COUNTY | WOODRUFF COUNTY
CALIFORNIA
ALPINE COUNTY | ALPINE COUNTRY
AZUSA CITY | AZUSA CITY IN
| LOS ANGELES COUNTY
BAKERSFIELD CITY | BAKERSFIELD CITY IN
| KERN COUNTY
BALDWIN PARK CITY | BALDWIN PARK CITY IN
| LOS ANGELES COUNTY
BANNING CITY | BANNING CITY IN
| RIVERSIDE COUNTY
BELL CITY | BELL CITY IN
| LOS ANGELES COUNTY
BELL GARDENS CITY | BELL GARDENS CITY IN
| LOS ANGELES COUNTY
BALANCE OF BUTTE COUNTY | BUTTE COUNTY LESS
| CHICO CITY
| PARADISE CITY
CALAVERAS COUNTY | CALAVERAS COUNTY
CALEXICO CITY | CALEXICO CITY IN
| IMPERIAL COUNTY
CERES CITY | CERES CITY IN
| STANISLAUS COUNTY
CHICO CITY | CHICO CITY IN
| BUTTE COUNTY
CLOVIS CITY | CLOVIS CITY IN
| FRESNO COUNTY
COLTON CITY | COLTON CITY IN
| SAN BERNARDINO COUNTY
COLUSA COUNTY | COLUSA COUNTY
COMPTON CITY | COMPTON CITY IN
| LOS ANGELES COUNTY
DEL NORTE COUNTY | DEL NORTE COUNTY
DELANO CITY | DELANO CITY IN
| KERN COUNTY
EL CENTRO CITY | EL CENTRO CITY IN
| IMPERIAL COUNTY
EL MONTE CITY | EL MONTE CITY IN
| LOS ANGELES COUNTY
EUREKA CITY | EUREKA CITY IN
| HUMBOLDT COUNTY
FRESNO CITY | FRESNO CITY IN
| FRESNO COUNTY
BALANCE OF FRESNO COUNTY | FRESNO COUNTY LESS
| CLOVIS CITY
| FRESNO CITY
GLENN COUNTY | GLENN COUNTY
HANFORD CITY | HANFORD CITY IN
| KINGS COUNTY
HEMET CITY | HEMET CITY IN
| RIVERSIDE COUNTY
HOLISTER CITY | HOLISTER CITY IN
| SAN BENITO COUNTY
BALANCE OF HUMBOLDT COUNTY | HUMBOLDT COUNTY LESS
| EUREKA CITY
HUNTINGTON PARK CITY | HUNTINGTON PARK CITY IN
| LOS ANGELES COUNTY
BALANCE OF IMPERIAL COUNTY | IMPERIAL COUNTY LESS
| CALEXICO CITY
| EL CENTRO CITY
INDIO CITY | INDIO CITY IN
| RIVERSIDE COUNTY
INGLEWOOD CITY | INGLEWOOD CITY IN
| LOS ANGELES COUNTY
BALANCE OF KERN COUNTY | KERN COUNTY LESS
| BAKERSFIELD CITY
| DELANO CITY
| RIDGECREST CITY
BALANCE OF KINGS COUNTY | KINGS COUNTY LESS
| HANFORD CITY
LA PUENTE CITY | LA PUENTE CITY IN
| LOS ANGELES COUNTY
LAKE COUNTY | LAKE COUNTY
LAKE ELSINORE CITY | LAKE ELSINORE CITY IN
| RIVERSIDE COUNTY
LASSEN COUNTY | LASSEN COUNTY
LODI CITY | LODI CITY IN
| SAN JOAQUIN COUNTY
LOS ANGELES CITY | LOS ANGELES CITY IN
| LOS ANGELES COUNTY
LOS BANOS CITY | LOS BANOS CITY IN
| MERCED COUNTY
LYNWOOD CITY | LYNWOOD CITY IN
| LOS ANGELES COUNTY
MADERA CITY | MADERA CITY IN
| MADERA COUNTY
BALANCE OF MADERA COUNTY | MADERA COUNTY LESS
| MADERA CITY
MANTECA CITY | MANTECA CITY IN
| SAN JOAQUIN COUNTY
MARINA CITY | MARINA CITY IN
| MONTEREY COUNTY
MARIPOSA COUNTY | MARIPOSA COUNTY
MAYWOOD CITY | MAYWOOD CITY IN
| LOS ANGELES COUNTY
MENDOCINO COUNTY | MENDOCINO COUNTY
MERCED CITY | MERCED CITY IN
| MERCED COUNTY
BALANCE OF MERCED COUNTY | MERCED COUNTY LESS
| LOS BANOS CITY
| MERCED CITY
MODESTO CITY | MODESTO CITY IN
| STANISLAUS COUNTY
MODOC COUNTY | MODOC COUNTY
BALANCE OF MONTEREY COUNTY | MONTEREY COUNTY LESS
| MARINA CITY
| MONTEREY CITY
| SALINAS CITY
| SEASIDE CITY
OXNARD CITY | OXNARD CITY IN
| VENTURA COUNTY
PARAMOUNT CITY | PARAMOUNT CITY IN
| LOS ANGELES COUNTY
PERRIS CITY | PERRIS CITY IN
| RIVERSIDE COUNTY
PICO RIVERA CITY | PICO RIVERA CITY IN
| LOS ANGELES COUNTY
PLUMAS COUNTY | PLUMAS COUNTY
POMONA CITY | POMONA CITY IN
| LOS ANGELES COUNTY
PORTERVILLE CITY | PORTERVILLE CITY IN
| TULARE COUNTY
REDDING CITY | REDDING CITY IN
| SHASTA COUNTY
ROSEMEAD CITY | ROSEMEAD CITY IN
| LOS ANGELES COUNTY
SALINAS CITY | SALINAS CITY IN
| MONTEREY COUNTY
SAN BERNARDINO CITY | SAN BERNARDINO CITY IN
| SAN BERNARDINO COUNTY
SAN JACINTO CITY | SAN JACINTO CITY IN
| RIVERSIDE COUNTY
BALANCE OF SAN JOAQUIN COUNTY | SAN JOAQUIN COUNTY LESS
| LODI CITY
| MANTECA CITY
| STOCKTON CITY
| TRACEY CITY
SAN PABLO CITY | SAN PABLO CITY IN
| CONTRA COSTA COUNTY
SANTA PAULA CITY | SANTA PAULA CITY IN
| VENTURA COUNTY
SEASIDE CITY | SEASIDE CITY IN
| MONTEREY COUNTY
BALANCE OF SHASTA COUNTY | SHASTA COUNTY LESS
| REDDING CITY
SIERRA COUNTY | SIERRA COUNTY
SISKIYOU COUNTY | SISKIYOU COUNTY
SOUTH GATE CITY | SOUTH GATE CITY IN
| LOS ANGELES COUNTY
BALANCE OF STANISLAUS COUNTY | STANISLAUS COUNTY LESS
| CERES CITY
| MODESTO CITY
| TURLOCK CITY
STOCKTON CITY | STOCKTON CITY IN
| SAN JOAQUIN COUNTY
BALANCE OF SUTTER COUNTY | SUTTER COUNTY LESS
| YUBA CITY
TEHAMA COUNTY | TEHAMA COUNTY
TRACEY CITY | TRACEY CITY IN
| SAN JOAQUIN COUNTY
TRINITY COUNTY | TRINITY COUNTY
TULARE CITY | TULARE CITY IN
| TULARE COUNTY
BALANCE OF TULARE COUNTY | TULARE COUNTY LESS
| PORTERVILLE CITY
| TULARE CITY
| VISALIA CITY
TURLOCK CITY | TURLOCK CITY IN
| STANISLAUS COUNTY
VICTORVILLE CITY | VICTORVILLE CITY IN
| SAN BERNARDINO COUNTY
VISALIA CITY | VISALIA CITY IN
| TULARE COUNTY
WATSONVILLE CITY | WATSONVILLE CITY IN
| SANTA CRUZ COUNTY
YUBA CITY | YUBA CITY IN
| SUTTER COUNTY
YUBA COUNTY | YUBA COUNTY
COLORADO
CONEJOS COUNTY | CONEJOS COUNTY
COSTILLA COUNTY | COSTILLA COUNTY
DOLORES COUNTY | DOLORES COUNTY
RIO GRANDE COUNTY | RIO GRANDE COUNTY
SAGUACHE COUNTY | SAGUACHE COUNTY
SAN JUAN COUNTY | SAN JUAN COUNTY
DISTRICT OF COLUMBIA
WASHINGTON DC CITY | WASHINGTON DC CITY IN
| DISTRICT OF COLUMBIA
FLORIDA
DELRAY BEACH CITY | DELRAY BEACH CITY IN
| PALM BEACH COUNTY
FORT PIERCE CITY | FORT PIERCE CITY IN
| ST. LUCIE COUNTY
GLADES COUNTY | GLADES COUNTY
GULF COUNTY | GULF COUNTY
HAMILTON COUNTY | HAMILTON COUNTY
HARDEE COUNTY | HARDEE COUNTY
HENDRY COUNTY | HENDRY COUNTY
HIALEAH CITY | HIALEAH CITY IN
| MIAMI-DADE COUNTY
HOLMES COUNTY | HOLMES COUNTY
INDIAN RIVER COUNTY | INDIAN RIVER COUNTY
LAUDERDALE LAKES CITY | LAUDERDALE LAKES CITY IN
| BROWARD COUNTY
MIAMI BEACH CITY | MIAMI BEACH CITY IN
| MIAMI-DADE COUNTY
MIAMI CITY | MIAMI CITY IN
| MIAMI-DADE COUNTY
NORTH MIAMI CITY | NORTH MIAMI CITY IN
| MIAMI-DADE COUNTY
OKEECHOBEE COUNTY | OKEECHOBEE COUNTY
PANAMA CITY | PANAMA CITY IN
| BAY COUNTY
PORT ST. LUCIE CITY | PORT ST. LUCIE CITY IN
| ST. LUCIE COUNTY
RIVIERA BEACH CITY | RIVIERA BEACH CITY IN
| PALM BEACH COUNTY
BALANCE OF ST. LUCIE COUNTY | ST. LUCIE COUNTY LESS
| FORT PIERCE CITY
| PORT ST. LUCIE CITY
TAYLOR COUNTY | TAYLOR COUNTY
WEST PALM BEACH CITY | WEST PALM BEACH CITY IN
| PALM BEACH COUNTY
GEORGIA
ALBANY CITY | ALBANY CITY IN
| DOUGHERTY COUNTY
APPLING COUNTY | APPLING COUNTY
ATKINSON COUNTY | ATKINSON COUNTY
BACON COUNTY | BACON COUNTY
BURKE COUNTY | BURKE COUNTY
CALHOUN COUNTY | CALHOUN COUNTY
CHATTAHOOCHEE COUNTY | CHATTAHOOCHEE COUNTY
CLAY COUNTY | CLAY COUNTY
CLINCH COUNTY | CLINCH COUNTY
COLQUITT COUNTY | COLQUITT COUNTY
CRISP COUNTY | CRISP COUNTY
DECATUR COUNTY | DECATUR COUNTY
DOOLY COUNTY | DOOLY COUNTY
EARLY COUNTY | EARLY COUNTY
ELBERT COUNTY | ELBERT COUNTY
EMANUEL COUNTY | EMANUEL COUNTY
GREENE COUNTY | GREENE COUNTY
HANCOCK COUNTY | HANCOCK COUNTY
JEFF DAVIS COUNTY | JEFF DAVIS COUNTY
JEFFERSON COUNTY | JEFFERSON COUNTY
JENKINS COUNTY | JENKINS COUNTY
JOHNSON COUNTY | JOHNSON COUNTY
LA GRANGE CITY | LA GRANGE CITY IN
| TROUP COUNTY
LAMAR COUNTY | LAMAR COUNTY
LINCOLN COUNTY | LINCOLN COUNTY
MACON COUNTY | MACON COUNTY
MC DUFFIE COUNTY | MC DUFFIE COUNTY
MERIWETHER COUNTY | MERIWETHER COUNTY
MONTGOMERY COUNTY | MONTGOMERY COUNTY
QUITMAN COUNTY | QUITMAN COUNTY
RANDOLPH COUNTY | RANDOLPH COUNTY
SCREVEN COUNTY | SCREVEN COUNTY
STEWART COUNTY | STEWART COUNTY
TALBOT COUNTY | TALBOT COUNTY
TALIAFERRO COUNTY | TALIAFERRO COUNTY
TATTNALL COUNTY | TATTNALL COUNTY
TELFAIR COUNTY | TELFAIR COUNTY
TERRELL COUNTY | TERRELL COUNTY
TOOMBS COUNTY | TOOMBS COUNTY
TREUTLEN COUNTY | TREUTLEN COUNTY
TURNER COUNTY | TURNER COUNTY
UPSON COUNTY | UPSON COUNTY
WARREN COUNTY | WARREN COUNTY
WHEELER COUNTY | WHEELER COUNTY
WILKES COUNTY | WILKES COUNTY
WORTH COUNTY | WORTH COUNTY
HAWAII
HAWAII COUNTY | HAWAII COUNTY
KAUAI COUNTY | KAUAI COUNTY
IDAHO
ADAMS COUNTY | ADAMS COUNTY
BENEWAH COUNTY | BENEWAH COUNTY
BOISE COUNTY | BOISE COUNTY
BONNER COUNTY | BONNER COUNTY
BOUNDARY COUNTY | BOUNDARY COUNTY
CLEARWATER COUNTY | CLEARWATER COUNTY
CUSTER COUNTY | CUSTER COUNTY
ELMORE COUNTY | ELMORE COUNTY
FREMONT COUNTY | FREMONT COUNTY
GEM COUNTY | GEM COUNTY
IDAHO COUNTY | IDAHO COUNTY
BALANCE OF KOOTENAI COUNTY | KOOTENAI COUNTY LESS
| COEUR D ALENE CITY
LEMHI COUNTY | LEMHI COUNTY
LEWIS COUNTY | LEWIS COUNTY
MINIDOKA COUNTY | MINIDOKA COUNTY
BALANCE OF NEZ PERCE COUNTY | NEZ PERCE COUNTY LESS
| LEWISTON CITY
PAYETTE COUNTY | PAYETTE COUNTY
POWER COUNTY | POWER COUNTY
SHOSHONE COUNTY | SHOSHONE COUNTY
VALLEY COUNTY | VALLEY COUNTY
WASHINGTON COUNTY | WASHINGTON COUNTY
ILLINOIS
ALEXANDER COUNTY | ALEXANDER COUNTY
ALTON CITY | ALTON CITY IN
| MADISON COUNTY
BELLEVILLE CITY | BELLEVILLE CITY IN
| ST. CLAIR COUNTY
BOONE COUNTY | BOONE COUNTY
CALUMET CITY | CALUMET CITY IN
| COOK COUNTY
CARPENTERSVILLE CITY | CARPENTERSVILLE CITY IN
| KANE COUNTY
CARROLL COUNTY | CARROLL COUNTY
CHICAGO CITY | CHICAGO CITY IN
| COOK COUNTY
CHICAGO HEIGHTS CITY | CHICAGO HEIGHTS CITY IN
| COOK COUNTY
CICERO CITY | CICERO CITY IN
| COOK COUNTY
CLAY COUNTY | CLAY COUNTY
CRAWFORD COUNTY | CRAWFORD COUNTY
CUMBERLAND COUNTY | CUMBERLAND COUNTY
DANVILLE CITY | DANVILLE CITY IN
| VERMILION COUNTY
DE WITT COUNTY | DE WITT COUNTY
DECATUR CITY | DECATUR CITY IN
| MACON COUNTY
DOLTON VILLAGE | DOLTON VILLAGE IN
| COOK COUNTY
EAST ST. LOUIS CITY | EAST ST. LOUIS CITY IN
| ST. CLAIR COUNTY
ELGIN CITY | ELGIN CITY IN
| COOK COUNTY
| KANE COUNTY
FAYETTE COUNTY | FAYETTE COUNTY
FRANKLIN COUNTY | FRANKLIN COUNTY
FREEPORT CITY | FREEPORT CITY IN
| STEPHENSON COUNTY
FULTON COUNTY | FULTON COUNTY
GALLATIN COUNTY | GALLATIN COUNTY
GRANITE CITY | GRANITE CITY IN
| MADISON COUNTY
GRUNDY COUNTY | GRUNDY COUNTY
HAMILTON COUNTY | HAMILTON COUNTY
HARDIN COUNTY | HARDIN COUNTY
HARVEY CITY | HARVEY CITY IN
| COOK COUNTY
JASPER COUNTY | JASPER COUNTY
JEFFERSON COUNTY | JEFFERSON COUNTY
JOLIET CITY | JOLIET CITY IN
| WILL COUNTY
KANKAKEE CITY | KANKAKEE CITY IN
| KANKAKEE COUNTY
LA SALLE COUNTY | LA SALLE COUNTY
LAWRENCE COUNTY | LAWRENCE COUNTY
MARION COUNTY | MARION COUNTY
MASON COUNTY | MASON COUNTY
MAYWOOD VILLAGE | MAYWOOD VILLAGE IN
| COOK COUNTY
MERCER COUNTY | MERCER COUNTY
MONTGOMERY COUNTY | MONTGOMERY COUNTY
NORTH CHICAGO CITY | NORTH CHICAGO CITY IN
| LAKE COUNTY
PERRY COUNTY | PERRY COUNTY
POPE COUNTY | POPE COUNTY
PULASKI COUNTY | PULASKI COUNTY
RICHLAND COUNTY | RICHLAND COUNTY
ROCKFORD CITY | ROCKFORD CITY IN
| WINNEBAGO COUNTY
ROUND LAKE BEACH VILLAGE | ROUND LAKE BEACH VILLAGE IN
| LAKE COUNTY
SALINE COUNTY | SALINE COUNTY
STARK COUNTY | STARK COUNTY
UNION COUNTY | UNION COUNTY
WABASH COUNTY | WABASH COUNTY
WAUKEGAN CITY | WAUKEGAN CITY IN
| LAKE COUNTY
WAYNE COUNTY | WAYNE COUNTY
WILLIAMSON COUNTY | WILLIAMSON COUNTY
INDIANA
BLACKFORD COUNTY | BLACKFORD COUNTY
EAST CHICAGO CITY | EAST CHICAGO CITY IN
| LAKE COUNTY
FAYETTE COUNTY | FAYETTE COUNTY
FULTON COUNTY | FULTON COUNTY
GARY CITY | GARY CITY IN
| LAKE COUNTY
GREENE COUNTY | GREENE COUNTY
LAWRENCE COUNTY | LAWRENCE COUNTY
MARION CITY | MARION CITY IN
| GRANT COUNTY
MICHIGAN CITY | MICHIGAN CITY IN
| LA PORTE COUNTY
ORANGE COUNTY | ORANGE COUNTY
PERRY COUNTY | PERRY COUNTY
PULASKI COUNTY | PULASKI COUNTY
STARKE COUNTY | STARKE COUNTY
SULLIVAN COUNTY | SULLIVAN COUNTY
SWITZERLAND COUNTY | SWITZERLAND COUNTY
TERRE HAUTE CITY | TERRE HAUTE CITY IN
| VIGO COUNTY
IOWA
CHICKASAW COUNTY | CHICKASAW COUNTY
KANSAS
ALLEN COUNTY | ALLEN COUNTY
BROWN COUNTY | BROWN COUNTY
CHEROKEE COUNTY | CHEROKEE COUNTY
DONIPHAN COUNTY | DONIPHAN COUNTY
GARDEN CITY | GARDEN CITY IN
| FINNEY COUNTY
GEARY COUNTY | GEARY COUNTY
KANSAS CITY KN | KANSAS CITY KN IN
| WYANDOTTE COUNTY
LINN COUNTY | LINN COUNTY
WOODSON COUNTY | WOODSON COUNTY
KENTUCKY
ALLEN COUNTY | ALLEN COUNTY
BALLARD COUNTY | BALLARD COUNTY
BATH COUNTY | BATH COUNTY
BELL COUNTY | BELL COUNTY
BREATHITT COUNTY | BREATHITT COUNTY
BRECKINRIDGE COUNTY | BRECKINRIDGE COUNTY
CARTER COUNTY | CARTER COUNTY
CASEY COUNTY | CASEY COUNTY
BALANCE OF CHRISTIAN COUNTY | CHRISTIAN COUNTY LESS
| HOPKINSVILLE CITY
CLAY COUNTY | CLAY COUNTY
CRITTENDEN COUNTY | CRITTENDEN COUNTY
CUMBERLAND COUNTY | CUMBERLAND COUNTY
ELLIOTT COUNTY | ELLIOTT COUNTY
FLOYD COUNTY | FLOYD COUNTY
FULTON COUNTY | FULTON COUNTY
GRAVES COUNTY | GRAVES COUNTY
GRAYSON COUNTY | GRAYSON COUNTY
GREEN COUNTY | GREEN COUNTY
HANCOCK COUNTY | HANCOCK COUNTY
HARLAN COUNTY | HARLAN COUNTY
HOPKINS COUNTY | HOPKINS COUNTY
JOHNSON COUNTY | JOHNSON COUNTY
KNOTT COUNTY | KNOTT COUNTY
LAWRENCE COUNTY | LAWRENCE COUNTY
LEE COUNTY | LEE COUNTY
LETCHER COUNTY | LETCHER COUNTY
LEWIS COUNTY | LEWIS COUNTY
LIVINGSTON COUNTY | LIVINGSTON COUNTY
LOGAN COUNTY | LOGAN COUNTY
MAGOFFIN COUNTY | MAGOFFIN COUNTY
MARSHALL COUNTY | MARSHALL COUNTY
MARTIN COUNTY | MARTIN COUNTY
MC CREARY COUNTY | MC CREARY COUNTY
MC LEAN COUNTY | MC LEAN COUNTY
MENIFEE COUNTY | MENIFEE COUNTY
MONROE COUNTY | MONROE COUNTY
MORGAN COUNTY | MORGAN COUNTY
MUHLENBERG COUNTY | MUHLENBERG COUNTY
NELSON COUNTY | NELSON COUNTY
NICHOLAS COUNTY | NICHOLAS COUNTY
OHIO COUNTY | OHIO COUNTY
PERRY COUNTY | PERRY COUNTY
POWELL COUNTY | POWELL COUNTY
ROCKCASTLE COUNTY | ROCKCASTLE COUNTY
RUSSELL COUNTY | RUSSELL COUNTY
TAYLOR COUNTY | TAYLOR COUNTY
TODD COUNTY | TODD COUNTY
TRIMBLE COUNTY | TRIMBLE COUNTY
UNION COUNTY | UNION COUNTY
BALANCE OF WARREN COUNTY | WARREN COUNTY LESS
| BOWLING GREEN
WAYNE COUNTY | WAYNE COUNTY
WEBSTER COUNTY | WEBSTER COUNTY
WOLFE COUNTY | WOLFE COUNTY
LOUISIANA
ACADIA PARISH | ACADIA PARISH
ALEXANDRIA CITY | ALEXANDRIA CITY IN
| RAPIDES PARISH
ALLEN PARISH | ALLEN PARISH
ASCENSION PARISH | ASCENSION PARISH
ASSUMPTION PARISH | ASSUMPTION PARISH
AVOYELLES PARISH | AVOYELLES PARISH
BEAUREGARD PARISH | BEAUREGARD PARISH
BIENVILLE PARISH | BIENVILLE PARISH
CALDWELL PARISH | CALDWELL PARISH
CAMERON PARISH | CAMERON PARISH
CATAHOULA PARISH | CATAHOULA PARISH
CLAIBORNE PARISH | CLAIBORNE PARISH
CONCORDIA PARISH | CONCORDIA PARISH
DE SOTO PARISH | DE SOTO PARISH
EAST CARROLL PARISH | EAST CARROLL PARISH
EAST FELICIANA PARISH | EAST FELICIANA PARISH
EVANGELINE PARISH | EVANGELINE PARISH
FRANKLIN PARISH | FRANKLIN PARISH
GRANT PARISH | GRANT PARISH
IBERVILLE PARISH | IBERVILLE PARISH
JACKSON PARISH | JACKSON PARISH
JEFFERSON DAVIS PARISH | JEFFERSON DAVIS PARISH
LA SALLE PARISH | LA SALLE PARISH
LAKE CHARLES CITY | LAKE CHARLES CITY IN
| CALCASIEU PARISH
LIVINGSTON PARISH | LIVINGSTON PARISH
MADISON PARISH | MADISON PARISH
MONROE CITY | MONROE CITY IN
| OUACHITA PARISH
MOREHOUSE PARISH | MOREHOUSE PARISH
NATCHITOCHES PARISH | NATCHITOCHES PARISH
NEW IBERIA CITY | NEW IBERIA CITY IN
| IBERIA PARISH
POINTE COUPEE PARISH | POINTE COUPEE PARISH
RED RIVER PARISH | RED RIVER PARISH
RICHLAND PARISH | RICHLAND PARISH
SABINE PARISH | SABINE PARISH
SHREVEPORT CITY | SHREVEPORT CITY IN
| BOSSIER PARISH
| CADDO PARISH
ST. HELENA PARISH | ST. HELENA PARISH
ST. JAMES PARISH | ST. JAMES PARISH
ST. JOHN BAPTIST PARISH | ST. JOHN BAPTIST PARISH
ST. LANDRY PARISH | ST. LANDRY PARISH
ST. MARTIN PARISH | ST. MARTIN PARISH
ST. MARY PARISH | ST. MARY PARISH
TANGIPAHOA PARISH | TANGIPAHOA PARISH
TENSAS PARISH | TENSAS PARISH
VERMILION PARISH | VERMILION PARISH
WASHINGTON PARISH | WASHINGTON PARISH
WEBSTER PARISH | WEBSTER PARISH
WEST CARROLL PARISH | WEST CARROLL PARISH
WINN PARISH | WINN PARISH
MAINE
FRANKLIN COUNTY | FRANKLIN COUNTY
PISCATAQUIS COUNTY | PISCATAQUIS COUNTY
SOMERSET COUNTY | SOMERSET COUNTY
WASHINGTON COUNTY | WASHINGTON COUNTY
MARYLAND
ALLEGANY COUNTY | ALLEGANY COUNTY
BALTIMORE CITY | BALTIMORE CITY
DORCHESTER COUNTY | DORCHESTER COUNTY
GARRETT COUNTY | GARRETT COUNTY
SOMERSET COUNTY | SOMERSET COUNTY
WORCESTER COUNTY | WORCESTER COUNTY
MASSACHUSETTS
LAWRENCE CITY | LAWRENCE CITY IN
| ESSEX COUNTY
NEW BEDFORD CITY | NEW BEDFORD CITY IN
| BRISTOL COUNTY
PHILLIPSTON TOWN | PHILLIPSTON TOWN IN
| WORCESTER COUNTY
PROVINCETOWN TOWN | PROVINCETOWN TOWN IN
| BARNSTABLE COUNTY
TRURO TOWN | TRURO TOWN IN
| BARNSTABLE COUNTY
MICHIGAN
ALCONA COUNTY | ALCONA COUNTY
ALPENA COUNTY | ALPENA COUNTY
ANTRIM COUNTY | ANTRIM COUNTY
ARENAC COUNTY | ARENAC COUNTY
BARAGA COUNTY | BARAGA COUNTY
BAY CITY | BAY CITY IN
| BAY COUNTY
BENZIE COUNTY | BENZIE COUNTY
BURTON CITY | BURTON CITY IN
| GENESEE COUNTY
CHEBOYGAN COUNTY | CHEBOYGAN COUNTY
CHIPPEWA COUNTY | CHIPPEWA COUNTY
CLARE COUNTY | CLARE COUNTY
CRAWFORD COUNTY | CRAWFORD COUNTY
DELTA COUNTY | DELTA COUNTY
DETROIT CITY | DETROIT CITY IN
| WAYNE COUNTY
EMMET COUNTY | EMMET COUNTY
FLINT CITY | FLINT CITY IN
| GENESEE COUNTY
GLADWIN COUNTY | GLADWIN COUNTY
| GOGEBIC COUNTY
| HIGHLAND PARK CITY IN
| WAYNE COUNTY
HURON COUNTY | HURON COUNTY
IOSCO COUNTY | IOSCO COUNTY
IRON COUNTY | IRON COUNTY
JACKSON CITY | JACKSON CITY IN
| JACKSON COUNTY
KALKASKA COUNTY | KALKASKA COUNTY
KEWEENAW COUNTY | KEWEENAW COUNTY
LAKE COUNTY | LAKE COUNTY
LUCE COUNTY | LUCE COUNTY
MACKINAC COUNTY | MACKINAC COUNTY
MANISTEE COUNTY | MANISTEE COUNTY
MASON COUNTY | MASON COUNTY
MONTCALM COUNTY | MONTCALM COUNTY
MONTMORENCY COUNTY | MONTMORENCY COUNTY
MOUNT MORRIS TOWNSHIP | MOUNT MORRIS TOWNSHIP IN
| GENESEE COUNTY
MUSKEGON CITY | MUSKEGON CITY IN
| MUSKEGON COUNTY
NEWAYGO COUNTY | NEWAYGO COUNTY
OCEANA COUNTY | OCEANA COUNTY
OGEMAW COUNTY | OGEMAW COUNTY
ONTONAGON COUNTY | ONTONAGON COUNTY
OSCEOLA COUNTY | OSCEOLA COUNTY
OSCODA COUNTY | OSCODA COUNTY
PONTIAC CITY | PONTIAC CITY IN
| OAKLAND COUNTY
PORT HURON CITY | PORT HURON CITY IN
| ST. CLAIR COUNTY
PRESQUE ISLE COUNTY | PRESQUE ISLE COUNTY
ROSCOMMON COUNTY | ROSCOMMON COUNTY
SAGINAW CITY | SAGINAW CITY IN
| SAGINAW COUNTY
SANILAC COUNTY | SANILAC COUNTY
SCHOOLCRAFT COUNTY | SCHOOLCRAFT COUNTY
TUSCOLA COUNTY | TUSCOLA COUNTY
WEXFORD COUNTY | WEXFORD COUNTY
MINNESOTA
AITKIN COUNTY | AITKIN COUNTY
BECKER COUNTY | BECKER COUNTY
CASS COUNTY | CASS COUNTY
CHIPPEWA COUNTY | CHIPPEWA COUNTY
CLEARWATER COUNTY | CLEARWATER COUNTY
GRANT COUNTY | GRANT COUNTY
ITASCA COUNTY | ITASCA COUNTY
KANABEC COUNTY | KANABEC COUNTY
KITTSON COUNTY | KITTSON COUNTY
KOOCHICHING COUNTY | KOOCHICHING COUNTY
MAHNOMEN COUNTY | MAHNOMEN COUNTY
MARSHALL COUNTY | MARSHALL COUNTY
MEEKER COUNTY | MEEKER COUNTY
MILLE LACS COUNTY | MILLE LACS COUNTY
MORRISON COUNTY | MORRISON COUNTY
PENNINGTON COUNTY | PENNINGTON COUNTY
PINE COUNTY | PINE COUNTY
RED LAKE COUNTY | RED LAKE COUNTY
MISSISSIPPI
ADAMS COUNTY | ADAMS COUNTY
ATTALA COUNTY | ATTALA COUNTY
BENTON COUNTY | BENTON COUNTY
BOLIVAR COUNTY | BOLIVAR COUNTY
CALHOUN COUNTY | CALHOUN COUNTY
CARROLL COUNTY | CARROLL COUNTY
CHICKASAW COUNTY | CHICKASAW COUNTY
CHOCTAW COUNTY | CHOCTAW COUNTY
CLAIBORNE COUNTY | CLAIBORNE COUNTY
CLARKE COUNTY | CLARKE COUNTY
CLAY COUNTY | CLAY COUNTY
COAHOMA COUNTY | COAHOMA COUNTY
COLUMBUS CITY | COLUMBUS CITY IN
| LOWNDES COUNTY
COPIAH COUNTY | COPIAH COUNTY
FRANKLIN COUNTY | FRANKLIN COUNTY
GEORGE COUNTY | GEORGE COUNTY
GREENE COUNTY | GREENE COUNTY
GREENVILLE CITY | GREENVILLE CITY IN
| WASHINGTON COUNTY
GRENADA COUNTY | GRENADA COUNTY
HOLMES COUNTY | HOLMES COUNTY
HUMPHREYS COUNTY | HUMPHREYS COUNTY
ISSAQUENA COUNTY | ISSAQUENA COUNTY
JEFFERSON COUNTY | JEFFERSON COUNTY
JEFFERSON DAVIS COUNTY | JEFFERSON DAVIS COUNTY
KEMPER COUNTY | KEMPER COUNTY
LAWRENCE COUNTY | LAWRENCE COUNTY
LEFLORE COUNTY | LEFLORE COUNTY
MARSHALL COUNTY | MARSHALL COUNTY
MERIDIAN CITY | MERIDIAN CITY IN
| LAUDERDALE COUNTY
MONROE COUNTY | MONROE COUNTY
MONTGOMERY COUNTY | MONTGOMERY COUNTY
NOXUBEE COUNTY | NOXUBEE COUNTY
PANOLA COUNTY | PANOLA COUNTY
PASCAGOULA CITY | PASCAGOULA CITY IN
| JACKSON COUNTY
PERRY COUNTY | PERRY COUNTY
PIKE COUNTY | PIKE COUNTY
QUITMAN COUNTY | QUITMAN COUNTY
SHARKEY COUNTY | SHARKEY COUNTY
STONE COUNTY | STONE COUNTY
SUNFLOWER COUNTY | SUNFLOWER COUNTY
TALLAHATCHIE COUNTY | TALLAHATCHIE COUNTY
TISHOMINGO COUNTY | TISHOMINGO COUNTY
TUNICA COUNTY | TUNICA COUNTY
WALTHALL COUNTY | WALTHALL COUNTY
BALANCE OF WASHINGTON COUNTY | WASHINGTON COUNTY LESS
| GREENVILLE CITY
WAYNE COUNTY | WAYNE COUNTY
WEBSTER COUNTY | WEBSTER COUNTY
WILKINSON COUNTY | WILKINSON COUNTY
WINSTON COUNTY | WINSTON COUNTY
YALOBUSHA COUNTY | YALOBUSHA COUNTY
YAZOO COUNTY | YAZOO COUNTY
MISSOURI
BENTON COUNTY | BENTON COUNTY
BOLLINGER COUNTY | BOLLINGER COUNTY
CARTER COUNTY | CARTER COUNTY
CLARK COUNTY | CLARK COUNTY
CRAWFORD COUNTY | CRAWFORD COUNTY
DALLAS COUNTY | DALLAS COUNTY
DENT COUNTY | DENT COUNTY
DOUGLAS COUNTY | DOUGLAS COUNTY
DUNKLIN COUNTY | DUNKLIN COUNTY
HICKORY COUNTY | HICKORY COUNTY
IRON COUNTY | IRON COUNTY
LINN COUNTY | LINN COUNTY
MACON COUNTY | MACON COUNTY
MADISON COUNTY | MADISON COUNTY
MISSISSIPPI COUNTY | MISSISSIPPI COUNTY
MONROE COUNTY | MONROE COUNTY
NEW MADRID COUNTY | NEW MADRID COUNTY
PEMISCOT COUNTY | PEMISCOT COUNTY
PULASKI COUNTY | PULASKI COUNTY
REYNOLDS COUNTY | REYNOLDS COUNTY
RIPLEY COUNTY | RIPLEY COUNTY
SHANNON COUNTY | SHANNON COUNTY
SHELBY COUNTY | SHELBY COUNTY
ST LOUIS CITY | ST LOUIS CITY
ST. FRANCOIS COUNTY | ST. FRANCOIS COUNTY
STODDARD COUNTY | STODDARD COUNTY
STONE COUNTY | STONE COUNTY
TANEY COUNTY | TANEY COUNTY
TEXAS COUNTY | TEXAS COUNTY
WASHINGTON COUNTY | WASHINGTON COUNTY
WAYNE COUNTY | WAYNE COUNTY
WRIGHT COUNTY | WRIGHT COUNTY
MONTANA
ANACONDA-DEER LODGE COUNTY | ANACONDA-DEER LODGE COUNTY
BIG HORN COUNTY | BIG HORN COUNTY
BLAINE COUNTY | BLAINE COUNTY
FLATHEAD COUNTY | FLATHEAD COUNTY
GLACIER COUNTY | GLACIER COUNTY
GRANITE COUNTY | GRANITE COUNTY
LAKE COUNTY | LAKE COUNTY
LINCOLN COUNTY | LINCOLN COUNTY
MEAGHER COUNTY | MEAGHER COUNTY
MINERAL COUNTY | MINERAL COUNTY
MUSSELSHELL COUNTY | MUSSELSHELL COUNTY
ROOSEVELT COUNTY | ROOSEVELT COUNTY
ROSEBUD COUNTY | ROSEBUD COUNTY
SANDERS COUNTY | SANDERS COUNTY
NEBRASKA
JOHNSON COUNTY | JOHNSON COUNTY
THURSTON COUNTY | THURSTON COUNTY
NEVADA
CHURCHILL COUNTY | CHURCHILL COUNTY
ESMERALDA COUNTY | ESMERALDA COUNTY
LANDER COUNTY | LANDER COUNTY
LINCOLN COUNTY | LINCOLN COUNTY
LYON COUNTY | LYON COUNTY
MINERAL COUNTY | MINERAL COUNTY
NORTH LAS VEGAS CITY | NORTH LAS VEGAS CITY IN
| CLARK COUNTY
NYE COUNTY | NYE COUNTY
NEW JERSEY
ATLANTIC CITY | ATLANTIC CITY IN
| ATLANTIC COUNTY
CAMDEN CITY | CAMDEN CITY IN
| CAMDEN COUNTY
CAPE MAY COUNTY | CAPE MAY COUNTY
BALANCE OF CUMBERLAND COUNTY | BALANCE OF CUMBERLAND LESS
| MILLVILLE CITY
| VINELAND CITY
EAST ORANGE CITY | EAST ORANGE CITY IN
| ESSEX COUNTY
ELIZABETH CITY | ELIZABETH CITY IN
| UNION COUNTY
JERSEY CITY | JERSEY CITY IN
| HUDSON COUNTY
MILLVILLE CITY | MILLVILLE CITY IN
| CUMBERLAND COUNTY
NEW BRUNSWICK CITY | NEW BRUNSWICK CITY IN
| MIDDLESEX COUNTY
NEWARK CITY | NEWARK CITY
| ESSEX COUNTY
PASSAIC CITY | PASSAIC CITY IN
| PASSAIC COUNTY
PATERSON CITY | PATERSON CITY IN
| PASSAIC COUNTY
PERTH AMBOY CITY | PERTH AMBOY CITY IN
| MIDDLESEX COUNTY
PLAINFIELD CITY | PLAINFIELD CITY IN
| UNION COUNTY
TRENTON CITY | TRENTON CITY
| MERCER COUNTY
UNION CITY | UNION CITY IN
| HUDSON COUNTY
VINELAND CITY | VINELAND CITY IN
| CUMBERLAND COUNTY
NEW MEXICO
CARLSBAD CITY | CARLSBAD CITY IN
| EDDY COUNTY
CATRON COUNTY | CATRON COUNTY
CIBOLA COUNTY | CIBOLA COUNTY
BALANCE OF DONA ANA COUNTY | DONA ANA COUNTY LESS
| LAS CRUCES CITY
GRANT COUNTY | GRANT COUNTY
GUADALUPE COUNTY | GUADALUPE COUNTY
HIDALGO COUNTY | HIDALGO COUNTY
LAS CRUCES CITY | LAS CRUCES CITY IN
| DONA ANA COUNTY
LUNA COUNTY | LUNA COUNTY
MC KINLEY COUNTY | MC KINLEY COUNTY
MORA COUNTY | MORA COUNTY
BALANCE OF OTERO COUNTY | OTERO COUNTY LESS
| ALAMOGORDO CITY
RIO ARRIBA COUNTY | RIO ARRIBA COUNTY
ROSWELL CITY | ROSWELL CITY
| CHAVES COUNTY
BALANCE OF SAN JUAN COUNTY | SAN JUAN COUNTY LESS
| FARMINGTON CITY
SAN MIGUEL COUNTY | SAN MIGUEL COUNTY
TAOS COUNTY | TAOS COUNTY
NEW YORK
ALLEGANY COUNTY | ALLEGANY COUNTY
BRONX COUNTY | BRONX COUNTY
BUFFALO CITY | BUFFALO CITY
| ERIE COUNTY
CATTARAUGUS COUNTY | CATTARAUGUS COUNTY
ELMIRA CITY | ELMIRA CITY IN
| CHEMUNG COUNTY
ESSEX COUNTY | ESSEX COUNTY
FRANKLIN COUNTY | FRANKLIN COUNTY
HAMILTON COUNTY | HAMILTON COUNTY
BALANCE OF JEFFERSON COUNTY | JEFFERSON COUNTY LESS
| WATERTOWN CITY
KINGS COUNTY | KINGS COUNTY
LEWIS COUNTY | LEWIS COUNTY
LOCKPORT CITY | LOCKPORT CITY IN
| NIAGARA COUNTY
NEWBURGH CITY | NEWBURGH CITY IN
| ORANGE COUNTY
NIAGARA FALLS CITY | NIAGARA FALLS CITY IN
| NIAGARA COUNTY
OSWEGO COUNTY | OSWEGO COUNTY
ROCHESTER CITY | ROCHESTER CITY
| MONROE COUNTY
SCHUYLER COUNTY | SCHUYLER COUNTY
ST. LAWRENCE COUNTY | ST. LAWRENCE COUNTY
SYRACUSE CITY | SYRACUSE CITY IN
| ONONDAGA COUNTY
UTICA CITY | UTICA CITY IN
| ONEIDA COUNTY
WATERTOWN CITY | WATERTOWN CITY IN
| JEFFERSON COUNTY
NORTH CAROLINA
ALLEGHANY COUNTY | ALLEGHANY COUNTY
ANSON COUNTY | ANSON COUNTY
ASHE COUNTY | ASHE COUNTY
BEAUFORT COUNTY | BEAUFORT COUNTY
BERTIE COUNTY | BERTIE COUNTY
BLADEN COUNTY | BLADEN COUNTY
CHEROKEE COUNTY | CHEROKEE COUNTY
CLEVELAND COUNTY | CLEVELAND COUNTY
COLUMBUS COUNTY | COLUMBUS COUNTY
BALANCE OF EDGECOMBE COUNTY | EDGECOMBE COUNTY LESS
| ROCKY MOUNT CITY
BALANCE OF GASTON COUNTY N.C. | GASTON COUNTY N.C. LESS
| GASTONIA CITY N.C.
| GASTON COUNTY N.C.
GASTONIA CITY | GASTONIA CITY N.C. IN
GOLDSBORO CITY | GOLDSBORO CITY IN
| WAYNE COUNTY
GRAHAM COUNTY | GRAHAM COUNTY
GREENVILLE CITY | GREENVILLE CITY IN
| PITT COUNTY
HALIFAX COUNTY | HALIFAX COUNTY
HERTFORD COUNTY | HERTFORD COUNTY
HICKORY CITY | HICKORY CITY IN
| BURKE COUNTY
| CATAWBA COUNTY
HOKE COUNTY | HOKE COUNTY
HYDE COUNTY | HYDE COUNTY
KANNAPOLIS CITY | KANNAPOLIS CITY IN
| CABARRUS COUNTY N.C.
| ROWAN COUNTY N.C.
KINSTON CITY | KINSTON CITY IN
| LENOIR COUNTY
MARTIN COUNTY | MARTIN COUNTY
MC DOWELL COUNTY | MC DOWELL COUNTY
MITCHELL COUNTY | MITCHELL COUNTY
MONROE CITY | MONROE CITY
| UNION COUNTY
NORTHAMPTON COUNTY | NORTHAMPTON COUNTY
PERSON COUNTY | PERSON COUNTY
RICHMOND COUNTY | RICHMOND COUNTY
ROBESON COUNTY | ROBESON COUNTY
ROCKINGHAM COUNTY | ROCKINGHAM COUNTY
ROCKY MOUNT CITY | ROCKY MOUNT CITY IN
| EDGECOMBE COUNTY
| NASH COUNTY
RUTHERFORD COUNTY | RUTHERFORD COUNTY
SALISBURY CITY | SALISBURY CITY IN
| ROWAN COUNTY N.C.
SCOTLAND COUNTY | SCOTLAND COUNTY
STANLY COUNTY | STANLY COUNTY
SWAIN COUNTY | SWAIN COUNTY
TYRRELL COUNTY | TYRRELL COUNTY
VANCE COUNTY | VANCE COUNTY
WARREN COUNTY | WARREN COUNTY
WASHINGTON COUNTY | WASHINGTON COUNTY
WILSON CITY | WILSON CITY IN
| WILSON COUNTY
YANCEY COUNTY | YANCEY COUNTY
NORTH DAKOTA
BENSON COUNTY | BENSON COUNTY
ROLETTE COUNTY | ROLETTE COUNTY
SHERIDAN COUNTY | SHERIDAN COUNTY
OHIO
ADAMS COUNTY | ADAMS COUNTY
ASHTABULA COUNTY | ASHTABULA COUNTY
BROWN COUNTY | BROWN COUNTY
CANTON CITY | CANTON CITY
| STARK COUNTY
CLEVELAND CITY | CLEVELAND CITY
| CUYAHOGA COUNTY
CRAWFORD COUNTY | CRAWFORD COUNTY
DAYTON CITY | DAYTON CITY IN
| MONTGOMERY COUNTY
EAST CLEVELAND CITY | EAST CLEVELAND CITY IN
| CUYAHOGA COUNTY
GALLIA COUNTY | GALLIA COUNTY
GUERNSEY COUNTY | GUERNSEY COUNTY
HOCKING COUNTY | HOCKING COUNTY
HURON COUNTY | HURON COUNTY
JACKSON COUNTY | JACKSON COUNTY
LAWRENCE COUNTY | LAWRENCE COUNTY
LIMA CITY | LIMA CITY IN
| ALLEN COUNTY
LORAIN CITY | LORAIN CITY IN
| LORAIN COUNTY
MANSFIELD CITY | MANSFIELD CITY IN
| RICHLAND COUNTY
MEIGS COUNTY | MEIGS COUNTY
MONROE COUNTY | MONROE COUNTY
MORGAN COUNTY | MORGAN COUNTY
NOBLE COUNTY | NOBLE COUNTY
PERRY COUNTY | PERRY COUNTY
PIKE COUNTY | PIKE COUNTY
SANDUSKY CITY | SANDUSKY CITY IN
| ERIE COUNTY
SCIOTO COUNTY | SCIOTO COUNTY
SPRINGFIELD CITY | SPRINGFIELD CITY IN
| CLARK COUNTY
VINTON COUNTY | VINTON COUNTY
WARREN CITY | WARREN CITY
| TRUMBULL COUNTY
YOUNGSTOWN CITY | YOUNGSTOWN CITY IN
| MAHONING COUNTY
ZANESVILLE CITY | ZANESVILLE CITY IN
| MUSKINGUM COUNTY
OKLAHOMA
CHOTAW COUNTY | CHOTAW COUNTY
COAL COUNTY | COAL COUNTY
MC CURTAIN COUNTY | MC CURTAIN COUNTY
OKMULGEE COUNTY | OKMULGEE COUNTY
OTTAWA COUNTY | OTTAWA COUNTY
OREGON
ALBANY CITY | ALBANAY CITY IN
| LINN COUNTY
BAKER COUNTY | BAKER COUNTY
COLUMBIA COUNTY | COLUMBIA COUNTY
COOS COUNTY | COOS COUNTY
CROOK COUNTY | CROOK COUNTY
CURRY COUNTY | CURRY COUNTY
BALANCE OF DESCHUTES COUNTY | DESCHUTES COUNTY LESS
| BEND CITY
DOUGLAS COUNTY | DOUGLAS COUNTY
GRANT COUNTY | GRANT COUNTY
HARNEY COUNTY | HARNEY COUNTY
HOOD RIVER COUNTY | HOOD RIVER COUNTY
JEFFERSON COUNTY | JEFFERSON COUNTY
JOSEPHINE COUNTY | JOSEPHINE COUNTY
KLAMATH COUNTY | KLAMATH COUNTY
LAKE COUNTY | LAKE COUNTY
BALANCE OF LANE COUNTY | LANE COUNTY LESS
| EUGENE CITY
| SPRINGFIELD CITY
LINCOLN COUNTY | LINCOLN COUNTY
BALANCE OF LINN COUNTY | LINN COUNTY LESS
| ALBANY CITY
MALHEUR COUNTY | MALHEUR COUNTY
MORROW COUNTY | MORROW COUNTY
SALEM CITY | SALEM CITY IN
| MARION COUNTY
| POLK COUNTY
SHERMAN COUNTY | SHERMAN COUNTY
SPRINGFIELD CITY | SPRINGFIELD CITY IN
| LANE COUNTY
UMATILLA COUNTY | UMATILLA COUNTY
WALLOWA COUNTY | WALLOWA COUNTY
WASCO COUNTY | WASCO COUNTY
WHEELER COUNTY | WHEELER COUNTY
PENNSYLVANIA
ARMSTRONG COUNTY | ARMSTRONG COUNTY
BEDFORD COUNTY | BEDFORD COUNTY
BALANCE OF CAMBRIA COUNTY | CAMBRIA COUNTY LESS
| JOHNSTOWN CITY
CAMERON COUNT | CAMERON COUNTY
CHESTER CITY | CHESTER CITY IN
| DELAWARE COUNTY
CLEARFIELD COUNTY | CLEARFIELD COUNTY
CLINTON COUNTY | CLINTON COUNTY
CRAWFORD COUNTY | CRAWFORD COUNTY
ELK COUNTY | ELK COUNTY
ERIE CITY | ERIE CITY IN
| ERIE COUNTY
FAYETTE COUNTY | FAYETTE COUNTY
FOREST COUNTY | FOREST COUNTY
GREENE COUNTY | GREENE COUNTY
HAZLETON CITY | HAZLETON COUNTY
| LUZERNE COUNTY
HUNTINGDON COUNTY | HUNTINGDON COUNTY
INDIANA COUNTY | INDIANA COUNTY
JEFFERSON COUNTY | JEFFERSON COUNTY
JOHNSTOWN CITY | JOHNSTOWN CITY IN
| CAMBRIA COUNTY
NEW CASTLE CITY | NEW CASTLE CITY IN
| LAWRENCE COUNTY
PHILADELPHIA CITY | PHILADELPHIA CITY IN
| PHILADELPHIA COUNTY
READING CITY | READING CITY IN
| BERKS COUNTY
SCHUYLKILL COUNTY | SCHUYLYKILL COUNTY
SOMERSET COUNTY | SOMERSET COUNTY
WILLIAMSPORT CITY | WILLIAMSPORT CITY IN
| LYCOMING COUNTY
YORK CITY | YORK CITY IN
| YORK COUNTY
PUERTO RICO
ADJUNTAS MUNICIPIO | ADJUNTAS MUNICIPIO
AGUADA MUNICIPIO | AGUADA MUNICIPIO
AGUADILLA MUNICIPIO | AGUADILLA MUNICIPIO
AGUAS BUENAS MUNICIPIO | AGUAS BUENAS MUNICIPIO
AIBONITO MUNICIPIO | AIBONITO MUNICIPIO
ANASCO MUNICIPIO | ANASCO MUNICIPIO
ARECIBO MUNICIPIO | ARECIBO MUNICIPIO
ARROYO MUNICIPIO | ARROYO MUNICIPIO
BARCELONETA MUNICIPIO | BARCELONETA MUNICIPIO
BARRANQUITAS MUNICIPIO | BARRANQUITAS MUNICIPIO
BAYAMON MUNICIPIO | BAYAMON MUNICIPIO
CABO ROJO MUNICIPIO | CABO ROJO MUNICIPIO
CAGUAS MUNICIPIO | CAGUAS MUNICIPIO
CAMUY MUNICIPIO | CAMUY MUNICIPIO
CANOVANAS MUNICIPIO | CANOVANAS MUNICIPIO
CAROLINA MUNICIPIO | CAROLINA MUNICIPIO
CATANO MUNICIPIO | CATANO MUNICIPIO
CAYEY MUNICIPIO | CAYEY MUNICIPIO
CEIBA MUNICIPIO | CEIBA MUNICIPIO
CIALES MUNICIPIO | CIALES MUNICIPIO
CIDRA MUNICIPIO | CIDRA MUNICIPIO
COAMO MUNICIPIO | COAMO MUNICIPIO
COMERIO MUNICIPIO | COMERIO MUNICIPIO
COROZAL MUNICIPIO | COROZAL MUNICIPIO
DORADO MUNICIPIO | DORADO MUNICIPIO
FAJARDO MUNICIPIO | FAJARDO MUNICIPIO
FLORIDA MUNICIPIO | FLORIDA MUNICIPIO
GUANICA MUNICIPIO | GUANICA MUNICIPIO
GUAYAMA MUNICIPIO | GUAYAMA MUNICIPIO
GUAYANILLA MUNICIPIO | GUAYANILLA MUNICIPIO
GURABO MUNICIPIO | GURABO MUNICIPIO
HATILLO MUNICIPIO | HATILLO MUNICIPIO
HORMIGUEROS MUNICIPIO | HORMIGUEROS MUNICIPIO
HUMACAO MUNICIPIO | HUMACAO MUNICIPIO
ISABELA MUNICIPIO | ISABELA MUNICIPIO
JAYUYA MUNICIPIO | JAYUYA MUNICIPIO
JUANA DIAZ MUNICIPIO | JUANA DIAZ MUNICIPIO
JUNCOS MUNICIPIO | JUNCOS MUNICIPIO
LAJAS MUNICIPIO | LAJAS MUNICIPIO
LARES MUNICIPIO | LARES MUNICIPIO
LAS MARIAS MUNICIPIO | LAS MARIAS MUNICIPIO
LAS PIEDRAS MUNICIPIO | LAS PIEDRAS MUNICIPIO
LOIZA MUNICIPIO | LOIZA MUNICIPIO
LUQUILLO MUNICIPIO | LUQUILLO MUNICIPIO
MANATI MUNICIPIO | MANATI MUNICIPIO
MARICAO MUNICIPIO | MARICAO MUNICIPIO
MAUNABO MUNICIPIO | MAUNABO MUNICIPIO
MAYAGUEZ MUNICIPIO | MAYAGUEZ MUNICIPIO
MOCA MUNICIPIO | MOCA MUNICIPIO
MOROVIS MUNICIPIO | MOROVIS MUNICIPIO
NAGUABO MUNICIPIO | NAGUABO MUNICIPIO
NARANJITO MUNICIPIO | NARANJITO MUNICIPIO
OROCOVIS MUNICIPIO | OROCOVIS MUNICIPIO
PATILLAS MUNICIPIO | PATILLAS MUNICIPIO
PENUELAS MUNICIPIO | PENUELAS MUNICIPIO
PONCE MUNICIPIO | PONCE MUNICIPIO
QUEBRADILLAS MUNICIPIO | QUEBRADILLAS MUNICIPIO
RINCON MUNICIPIO | RINCON MUNICIPIO
RIO GRANDE MUNICIPIO | RIO GRANDE MUNICIPIO
SABANA GRANDE MUNICIPIO | SABANA GRANDE MUNICIPIO
SALINAS MUNICIPIO | SALINAS MUNICIPIO
SAN GERMAN MUNICIPIO | SAN GERMAN MUNICIPIO
SAN JUAN MUNICIPIO | SAN JUAN MUNICIPIO
SAN LORENZO MUNICIPIO | SAN LORENZO MUNICIPIO
SAN SEBASTIAN MUNICIPIO | SAN SEBASTIAN MUNICIPIO
SANTA ISABEL MUNICIPIO | SANTA ISABEL MUNICIPIO
TOA ALTA MUNICIPIO | TOA ALTA MUNICIPIO
TOA BAJA MUNICIPIO | TOA BAJA MUNICIPIO
UTUADO MUNICIPIO | UTUADO MUNICIPIO
VEGA ALTA MUNICIPIO | VEGA ALTA MUNICIPIO
VEGA BAJA MUNICIPIO | VEGA BAJA MUNICIPIO
VIEQUES MUNICIPIO | VIEQUES MUNICIPIO
VILLALBA MUNICIPIO | VILLALBA MUNICIPIO
YABUCOA MUNICIPIO | YABUCOA MUNICIPIO
YAUCO MUNICIPIO | YAUCO MUNICIPIO
RHODE ISLAND
CENTRAL FALLS CITY | CENTRAL FALLS CITY
NEW SHOREHAM TOWN | NEW SHOREHAM TOWN
PROVIDENCE CITY | PROVIDENCE CITY
SOUTH CAROLINA
ABBEVILLE COUNTY | ABBEVILLE COUNTY
ANDERSON CITY | ANDERSON CITY IN
| ANDERSON COUNTY
BARNWELL COUNTY | BARNWELL COUNTY
CHEROKEE COUNTY | CHEROKEE COUNTY
CHESTER COUNTY | CHESTER COUNTY
CHESTERFIELD COUNTY | CHESTERFIELD COUNTY
CLARENDON COUNTY | CLARENDON COUNTY
DARLINGTON COUNTY | DARLINGTON COUNTY
DILLON COUNTY | DILLON COUNTY
FAIRFIELD COUNTY | FAIRFIELD COUNTY
FLORENCE CITY | FLORENCE CITY IN
| FLORENCE COUNTY
GEORGETOWN COUNTY | GEORGETOWN COUNTY
GREENWOOD COUNTY | GREENWOOD COUNTY
LEE COUNTY | LEE COUNTY
MARION COUNTY | MARION COUNTY
MARLBORO COUNTY | MARLBORO COUNTY
MC CORMICK COUNTY | MC CORMICK COUNTY
ORANGEBURG COUNTY | ORANGEBURG COUNTY
SUMTER CITY | SUMTER CITY IN
| SUMTER COUNTY
UNION COUNTY | UNION COUNTY
WILLIAMSBURG COUNTY | WILLIAMSBURG COUNTY
SOUTH DAKOTA
BUFFALO COUNTY | BUFFALO COUNTY
CAMPBELL COUNTY | CAMPBELL COUNTY
CLARK COUNTY | CLARK COUNTY
CORSON COUNTY | CORSON COUNTY
DEWEY COUNTY | DEWEY COUNTY
JACKSON COUNTY | JACKSON COUNTY
MELLETTE COUNTY | MELLETTE COUNTY
SHANNON COUNTY | SHANNON COUNTY
TODD COUNTY | TODD COUNTY
ZIEBACH COUNTY | ZIEBACH COUNTY
TENNESSEE
BENTON COUNTY | BENTON COUNTY
CAMPBELL COUNTY | CAMPBELL COUNTY
CARROLL COUNTY | CARROLL COUNTY
CLAY COUNTY | CLAY COUNTY
COCKE COUNTY | COCKE COUNTY
DECATUR COUNTY | DECATUR COUNTY
DYER COUNTY | DYER COUNTY
FENTRESS COUNTY | FENTRESS COUNTY
GIBSON COUNTY | GIBSON COUNTY
GREENE COUNTY | GREENE COUNTY
HANCOCK COUNTY | HANCOCK COUNTY
HARDEMAN COUNTY | HARDEMAN COUNTY
HAYWOOD COUNTY | HAYWOOD COUNTY
HENDERSON COUNTY | HENDERSON COUNTY
HOUSTON COUNTY | HOUSTON COUNTY
HUMPHREYS COUNTY | HUMPHREYS COUNTY
JACKSON COUNTY | JACKSON COUNTY
JOHNSON COUNTY | JOHNSON COUNTY
LAUDERDALE COUNTY | LAUDERDALE COUNTY
LAWRENCE COUNTY | LAWRENCE COUNTY
LEWIS COUNTY | LEWIS COUNTY
MC MINN COUNTY | MC MINN COUNTY
MEIGS COUNTY | MEIGS COUNTY
MONROE COUNTY | MONROE COUNTY
OVERTON COUNTY | OVERTON COUNTY
PERRY COUNTY | PERRY COUNTY
PICKETT COUNTY | PICKETT COUNTY
SCOTT COUNTY | SCOTT COUNTY
SEVIER COUNTY | SEVIER COUNTY
STEWART COUNTY | STEWART COUNTY
TROUSDALE COUNTY | TROUSDALE COUNTY
UNICOI COUNTY | UNICOI COUNTY
VAN BUREN COUNTY | VAN BUREN COUNTY
WAYNE COUNTY | WAYNE COUNTY
TEXAS
BEAUMONT CITY | BEAUMONT CITY IN
| JEFFERSON COUNTY
BALANCE OF BRAZORIA COUNTY | BRAZORIA COUNTY LESS
| LAKE JACKSON CITY
| PEARLAND CITY
BROOKS COUNTY | BROOKS COUNTY
BROWNSVILLE CITY | BROWNSVILLE CITY IN
| CAMERON COUNTY
CALHOUN COUNTY | CALHOUN COUNTY
BALANCE OF CAMERON COUNTY | CAMERON COUNTY LESS
| BROWNSVILLE CITY
| HARLINGEN CITY
COCHRAN COUNTY | COCHRAN COUNTY
CULBERSON COUNTY | CULBERSON COUNTY
DEL RIO CITY | DEL RIO CITY IN
| VAL VERDE COUNTY
DIMMIT COUNTY | DIMMIT COUNTY
DUVAL COUNTY | DUVAL COUNTY
EAGLE PASS CITY | EAGLE PASS CITY IN
| MAVERICK COUNTY
BALANCE OF ECTOR COUNTY | ECTOR COUNTY LESS
| ODESSA CITY
EDINBURG CITY | EDINBURG CITY IN
| HIDALGO COUNTY
EL PASO CITY | EL PASO CITY IN
| EL PASO COUNTY
BALANCE OF EL PASO COUNTY | EL PASO COUNTY LESS
| EL PASO CITY
| SOCORRO CITY
FLOYD COUNTY | FLOYD COUNTY
FRIO COUNTY | FRIO COUNTY
GALVESTON CITY | GALVESTON CITY IN
| GALVESTON COUNTY
BALANCE OF GALVESTON COUNTY | GALVESTON COUNTY LESS
| FRIENDSWOOD CITY
| GALVESTON CITY
| LEAGUE CITY
| TEXAS CITY
HARDIN COUNTY | HARDIN COUNTY
HARLINGEN CITY | HARLINGEN CITY IN
| CAMERON COUNTY
BALANCE OF HIDALGO COUNTY | HIDALGO COUNTY LESS
| EDINBURG CITY
| MC ALLEN CITY
| MISSION CITY
| PHARR CITY
| SAN JUAN CITY
| WESLACO CITY
JASPER COUNTY | JASPER COUNTY
JIM HOGG COUNTY | JIM HOGG COUNTY
JIM WELLS COUNTY | JIM WELLS COUNTY
KILLEEN CITY | KILLEEN CITY IN
| BELL COUNTY
KINNEY COUNTY | KINNEY COUNTY
LA SALLE COUNTY | LA SALLE COUNTY
LAMB COUNTY | LAMB COUNTY
LAREDO CITY | LAREDO CITY IN
| WEBB COUNTY
LIBERTY COUNTY | LIBERTY COUNTY
LOVING COUNTY | LOVING COUNTY
MARION COUNTY | MARION COUNTY
MATAGORDA COUNTY | MATAGORDA COUNTY
BALANCE OF MAVERICK COUNTY | MAVERICK COUNTY LESS
| EAGLE PASS CITY
MC ALLEN CITY | MC ALLEN CITY IN
| HIDALGO COUNTY
MISSION CITY | MISSION CITY IN
| HIDALGO COUNTY
MORRIS COUNTY | MORRIS COUNTY
NEWTON COUNTY | NEWTON COUNTY
BALANCE OF NUECES COUNTY | NUECES COUNTY LESS
| CORPUS CHRISTI CITY
ORANGE COUNTY | ORANGE COUNTY
PANOLA COUNTY | PANOLA COUNTY
PARIS CITY | PARIS CITY IN
| LAMAR COUNTY
PHARR CITY | PHARR CITY IN
| HIDALGO COUNTY
PORT ARTHUR CITY | PORT ARTHUR CITY IN
| JEFFERSON COUNTY
PRESIDIO COUNTY | PRESIDIO COUNTY
RED RIVER COUNTY | RED RIVER COUNTY
REEVES COUNTY | REEVES COUNTY
SABINE COUNTY | SABINE COUNTY
SAN JUAN CITY | SAN JUAN CITY IN
| HIDALGO COUNTY
SAN PATRICIO COUNTY | SAN PATRICIO COUNTY
SHELBY COUNTY | SHELBY COUNTY
SOCORRO CITY | SOCORRO CITY IN
| EL PASO COUNTY
SOMERVELL COUNTY | SOMERVELL COUNTY
STARR COUNTY | STARR COUNTY
TEXAS CITY | TEXAS CITY IN
| GALVESTON COUNTY
TYLER COUNTY | TYLER COUNTY
UVALDE COUNTY | UVALDE COUNTY
WARD COUNTY | WARD COUNTY
BALANCE OF WEBB COUNTY | WEBB COUNTY LESS
| LAREDO CITY
WESLACO CITY | WESLACO CITY IN
| HIDALGO COUNTY
WILLACY COUNTY | WILLACY COUNTY
WINKLER COUNTY | WINKLER COUNTY
ZAPATA COUNTY | ZAPATA COUNTY
ZAVALA COUNTY | ZAVALA COUNTY
UTAH
CARBON COUNTY | CARBON COUNTY
DUCHESNE | DUCHESNE COUNTY
EMERGY COUNTY | EMERGY COUNTY
GARFIELD COUNTY | GARFIELD COUNTY
GRAND COUNTY | GRAND COUNTY
OGDEN CITY | OGDEN CITY IN
| WEBER COUNTY
PIUTE COUNTY | PIUTEY COUNTY
SAN JUAN COUNTY | SAN JUAN COUNTY
TOOELE COUNTY | TOOELE COUNTY
VERMONT
ESSEX | ESSEX COUNTY
KILLINGTON TOWN | KILLINGTON TOWN IN
| RUTLAND COUNTY
ORELANS COUNTY | ORLEANS COUNTY
VIRGINIA
BUCHANAN COUNTY | BUCHANAN COUNTY
CARROLL COUNTY | CARROLL COUNTY
DANVILLE COUNTY | DANVILLE COUNTY
| DICKERSON COUNTY
GALAX CITY | GALAX CITY
GILES COUNTY | GILES COUNTY
GRAYSON COUNTY | GRAYSON COUNTY
HALIFAX COUNTY | HALIFAX COUNTY
HENRY COUNTY | HENRY COUNTY
LANCASTER COUNTY | LANCASTER COUNTY
MARTINSVILLE CITY | MARTINSVILLE CITY
NORTHUMBERLAND COUNTY | NORTHUMBERLAND COUNTY
PATRICK COUNTY | PATRICK COUNTY
PITTSYLVANIA COUNTY | PITTSYLVANIA COUNTY
PULASKI COUNTY | PULASKI COUNTY
RUSSELL COUNTY | RUSSELL COUNTY
SMYTH COUNTY | SMYTH COUNTY
WYTHE COUNTY | WYTHE COUNTY
WASHINGTON
ADAMS COUNTY | ADAMS COUNTY
BELLINGHAM CITY | BELLINGHAM CITY
| WHATCOM COUNTY
BALANCE OF BENTON COUNTY | BENTON COUNTY LESS
| KENNEWICK CITY
| RICHLAND CITY
BREMERTON CITY | BREMERTON CITY IN
| KITSAP COUNTY
BALANCE OF CHELAN COUNTY | CHELAN COUNTY LESS
| WENATCHEE CITY
CLALLAM COUNTY | CLALLAHAM COUNTY
COLUMBIA COUNTY | COLUMBIA COUNTY
BALANCE OF COWLITZ COUNTY | COWLITZ COUNTY LESS
| LONGVIEW CITY
DOUGLAS COUNTY | DOUGLAS COUNTY
EVERETT CITY | EVERETT CITY IN
| SNOHOMISH COUNTY
FERRY COUNTY | FERRY COUNTY
GRANT COUNTY | GRANT COUNTY
GRAYS HARBOR COUNTY | GRAYS HARBOR COUNTY
KENNEWICK CITY | KENNEWICK CITY IN
| BENTON COUNTY
KITTITAS COUNTY | KITTITAS COUNTY
KLICKITAT COUNTY | KLICKITAT COUNTY
LAKEWOOD CITY | LAKEWOOD CITY IN
| PIERCE COUNTY
LEWIS COUNTY | LEWIS COUNTY
LONGVIEW CITY | LONGVIEW CITY IN
| COWLITZ COUNTY
MASON COUNTY | MASON COUNTY
MOUNT VERNON CITY | MOUNT VERNON CITY IN
| THURSTON COUNTY
OKANOGAN COUNTY | OKANOGAN COUNTY
PACIFIC COUNTY | PACIFIC COUNTY
PASCO CITY | PASCO CITY IN
| FRANKLIN COUNTY
PEND OREILLE COUNTY | PEND OREILLE COUNTY
SKAGIT COUNTY | SKAGIT COUNTY
SKAMANIA COUNTY | SKAMANIA COUNTY
SPOKANE CITY | SPOKANE CITY IN
| SPOKANE COUNTY
STEVENS COUNTY | STEVENS COUNTY
TACOMA CITY | TACOMA CITY IN
| PIERCE COUNTY
VANCOUVER CITY | VANCOUVER CITY IN
| CLARK COUNTY
WAHKIAKUM COUNTY | WAHKIAKUM COUNTY
WALLA WALLA CITY | WALLA WALLA CITY IN
| WALLA WALLA COUNTY
WENATCHEE CITY | WENATCHEE CITY IN
| CHELAN COUNTY
BALANCE OF WHATCOM COUNTY | WHATCOM COUNTY LESS
| BELLINGHAM CITY
YAKIMA CITY | YAKIMA CITY IN
| YAKIMA COUNTY
BALANCE OF YAKIMA COUNTY | YAKIMA COUNTY LESS
| YAKIMA CITY
WEST VIRGINIA
BARBOUR COUNTY | BARBOUR COUNTY
BOONE COUNTY | BOONE COUNTY
BRAXTON COUNTY | BRAXTON COUNTY
CALHOUN COUNTY | CALHOUN COUNTY
CLAY COUNTY | CLAY COUNTY
FAYETTE COUNTY | FAYETTE COUNTY
GILMER COUNTY | GILMER COUNTY
GRANT COUNTY | GRANT COUNTY
GREENBRIER COUNTY | GREENBRIER COUNTY
JACKSON COUNTY | JACKSON COUNTY
LEWIS COUNTY | LEWIS COUNTY
LINCOLN COUNTY | LINCOLN COUNTY
LOGAN COUNTY | LOGAN COUNTY
BALANCE OF MARSHALL COUNTY | MARSHALL COUNTY LESS
| WHEELING CITY
MASON COUNTY | MASON COUNTY
MC DOWELL COUNTY | MC DOWELL COUNTY
MINERAL COUNTY | MINERAL COUNTY
MINGO COUNTY | MINGO COUNTY
NICHOLAS COUNTY | NICHOLAS COUNTY
PENDLETON COUNTY | PENDLETON COUNTY
PLEASANTS COUNTY | PLEASANTS COUNTY
POCAHONTAS COUNTY | POCAHONTAS COUNTY
RANDOLPH COUNTY | RANDOLPH COUNTY
RITCHIE COUNTY | RITCHIE COUNTY
ROANE COUNTY | ROANE COUNTY
SUMMERS COUNTY | SUMMERS COUNTY
TUCKER COUNTY | TUCKER COUNTY
WEBSTER COUNTY | WEBSTER COUNTY
WETZEL COUNTY | WETZEL COUNTY
WIRT COUNTY | WIRT COUNTY
WYOMING COUNTY | WYOMING COUNTY
WISCONSIN
ASHLAND COUNTY | ASHLAND COUNTY
BAYFIELD COUNTY | BAYFIELD COUNTY
BELOIT CITY | BELOIT CITY
| ROCK COUNTY
CLARK COUNTY | CLARK COUNTY
FLORENCE COUNTY | FLORENCE COUNTY
FOREST COUNTY | FOREST COUNTY
IRON COUNTY | IRON COUNTY
JUNEAU COUNTY | JUNEAU COUNTY
LANGLADE COUNTY | LANGLADE COUNTY
MARQUETTE COUNTY | MARQUETTE COUNTY
MENOMINEE COUNTY | MENOMINEE COUNTY
MILWAUKEE CITY | MILWAUKEE CITY IN
| MILWAUKEE COUNTY
PRICE COUNTY | PRICE COUNTY
RACINE CITY | RACINE CITY IN
| RACINE COUNTY
RUSK COUNTY | RUSK COUNTY
WASHBURN COUNTY | WASHBURN COUNTY
WYOMING
FREMONT COUNTY | FREMONT COUNTY

[FR Doc. 03-2461 Filed 2-3-03; 8:45 am]

BILLING CODE 4510-30-P